NUCLEAR REGULATORY COMMISSION

[Docket Nos. 50-454 and 50-455; NRC-2020-0275]

Exelon Generation Company, LLC; Byron Station, Unit Nos. 1 and 2

AGENCY: Nuclear Regulatory Commission.

ACTION: License amendment application; withdrawal by applicant.

SUMMARY: The U.S. Nuclear Regulatory Commission (NRC) has granted the request of Exelon Generation Company, LLC (Exelon, the licensee) to withdraw its application dated October 29, 2020, for proposed amendments to Renewed Facility Operating License Nos. NPF-37 and NPF-66 for Byron Station, Unit Nos. 1 and 2 (Byron), respectively. The proposed amendments would have made changes to the Byron licenses and technical specifications (TSs) to reflect the permanent cessation of reactor operations and permanent defueling of the reactors.

DATES: October 1, 2021.

ADDRESSES: Please refer to Docket ID NRC-2020-0275 when contacting the NRC about the availability of information regarding this document. You may obtain publicly available information related to this document using any of the following methods:

• Federal Rulemaking Website: Go to https://www.regulations.gov and search for Docket ID NRC-2021-0275. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Joel S. Wiebe, Office of Nuclear Reactor Regulation, U.S. Nuclear Regulatory Commission, Washington, DC 20555-0001; telephone: 301-415-6606; email: Joel.Wiebe@nrc.gov.

SUPPLEMENTARY INFORMATION: The NRC has granted the request of Exelon to withdraw its application dated October 29, 2020 (ADAMS Package Accession No. ML20304A147) for proposed amendments to Renewed Facility Operating License Nos. NPF-37 and NPF-66 for Byron Station, Unit Nos. 1 and 2, respectively, which are located in Ogle County, Illinois. Exelon is the licensee that owns and operates Byron. The proposed amendments would have changed the Byron TSs to permit changes in plant operations when the plants are permanently shut down and defueled. Specifically, the proposed amendments would have revised the Byron renewed facility operating licenses and TSs following the permanent cessation of power operations to reflect the post-shutdown and permanently defueled condition of the units. The proposed amendments would have eliminated TS requirements and license conditions that would not have been applicable once Byron ceased power operations and could no longer place fuel in the reactor vessels. The proposed amendments would have also eliminated obsolete license conditions. Additionally, the proposed amendments would have revised several license conditions and TS requirements, including limiting conditions for operation, usage rules, definitions, surveillance requirements, and administrative controls. The licensing bases for Byron, including the design bases accident analysis, would have also been revised.

The Commission previously issued a proposed finding that the proposed amendments involve no significant hazards consideration published in the Federal Register on December 29, 2020 (85 FR 85677). However, by letter dated September 15, 2021 (ADAMS Accession No. ML21258A276), Exelon requested to withdraw the proposed amendments.

Dated: September 28, 2021.
For the Nuclear Regulatory Commission.
Joel S. Wiebe,
Senior Project Manager, Plant Licensing Branch III, Division of Operating Reactor Licensing, Office of Nuclear Reactor Regulation.

[FR Doc. 2021-21436 Filed 9-30-21; 8:45 am]

BILLING CODE 7590-01-P